DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of March 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None.

In the following case, the investigation revealed that the criteria for eligibility have not been met for the reasons specified.

The investigation revealed that criterion (a)(2)(A) (I.C.) (Increased imports) and (a) (2)(B) (II.B) (No shift in production from a foreign country) have not been met.

TA-W-50,996; Fishing Vessel (F/V) Netta, Naknek, AK.

TA-W-50,165; Fishing Vessel (F/V) Jenni Lee, Aleknagik, AK.

TA-W-50,131; Fishing Vessel (F/V) Raymond Thorsen, Dillingham, AK.

TA-W-51,057; Fishing Vessel (F/V) Bucko, Dillingham, AK.

TA-W-51,040; Emcee Broadcast Products, White Haven, PA.

TA-W-50,993; Fishing Vessel (F/V) Darcie Michelle, Dillingham, AK.

TA-W-50,919; Southern Farm Fish Processors, Inc., a Div. of Farmland Industries, Inc., Eudora, AR.

TA-W-50,911; Benton Veneer Co., Benton, AR.

TA-W-50,897; Fishing Vessel (F/V) Miss Kari, Yankeetown, FL.

TA-W-50,793; Fishing Vessel (F/V) Matthew Thorson, Dillingham, AK.

TA-W-50,768; Fishing Vessel (F/V) Maya Ann, Anchorage, AK.

TA-W-50,759; Fishing Vessel (F/V) Cape Menemikof, Dillingham, AK.

TA-W-50,756; Fishing Vessel (F/V), Camelot, Togiak, AK.

TA-W-50,754; Fishing Vessel (F/V) Areil Rochelle, Nushagak, AK.

TA-W-50,710; Fishing Vessel (F/V) Kona Rose, Seattle, WA.

TA-W-50,691; State of Alaska Commercial Fisheries Entry Commission Permit #SO3T65910I, Newhalen, AK.

TA-W-50,621; Fishing Vessel (F/V) Frances A, Naknek, AK.

TA-W-50,630; Fishing Vessel (F/V) Alicia Dawn, Togiak, AK.

TA-W-50,360; Ocean State Finishing Co., Woonsocket, Rhode Island.

TA-W-50,340; Lear Corp., Electrical and Electronics Div. (Leed), Plant 074, Peru, IN.

TA-W-51,512; Fishing Vessel (F/V) Millie Jo, Chignik Lagoon, AK.

TA-W-51,428; South Bend Acquisition Corp., South Bend, IN.

TA-W-50,593; Exemplar Manufacturing Co., Ypsilanti, MI.

TA-W-50,537; Brillion Iron Works, Inc., Brillion, WI.

TA-W-50,220; Trus Joist, a Weyerhaeuser Business, Stayton, OR.

TA-W-50,389; Fishing Vessel (F/V) Three Wind, Dillingham, AK.

TA-W-50,464; Central Chair Co., Asheboro, NC.

TA-W-50,645; Sinsitl Fisheries, Kodiak, AK.

TA-W-50,703; Versa-Tool, Inc., Meadville, PA.

TA-W-50,748; Fishing Vessel (F/V) Aldebaran, Ketchikan, AK.

TA-W-50,769; Magic Fish Co., False Pass, AK.

TA-W-50,795; Purl Knit Fabric Corp., Brooklyn, NY.

TA-W-50,985; S.B. Foot Tanning Co., Texas Div., Dumas, TX.

The workers firm does not produce an article as required for certification under section 222 of the Trade Act of 1974.

TA-W-50,463; McCormick Enterprises, Inc., Delton, MI.

TA-W-51,048; Kayser-Roth Corp., Creedmoor Facility, Creedmoor, NC.

TA-W-51,001; e-Gain Communications Corp., Novato, CA.

TA-W-50,940; Olympic Security Services, Inc., Will Rogers World Airport, Oklahoma City, OK.

TA-W-50,942; Specialty Merchandise Corp (SMC), Chatsworth, CA.

The investigation revealed that criteria (2) has not been met. The workers' firm (or subdivision) is not an upstream supplier or components for trade-affected companies.

TA-W-50,458; Smurfit-Stone Container Corp., Corrugated Container Div., Spartanburg, SC.

The investigation revealed that criterion (a)(2)(A)(I.A) (no employment declines) has been met.

TA-W-50,524; Fishing Vessel (F/V) Jessica, Anchorage, AK.

TA-W-50,734; Genesis Designs, Bend, OR.

TA-W-50,467; State of Alaska Commercial Fisheries Entry Commission Permit #SO4T-60471B, Homer, AK.

TA-W-51,061; Fishing Vessel (F/V) Pauline Marie, Manokotak, AK.

TA-W-50,625; Fishing Vessel (F/V) Thunderbird, Anchorage, AK.

The investigation revealed that criterion (a)(2)(A)(I.B) (sales or production, or both did not decline) and (a)(2)(A)(II.B) (no shift in production to a foreign country) have not been met.

TA-W-50,843; Fishing Vessel (F/V) My Girls, Port Heiden, AK.

TA-W-51,169; State of Alaska Commercial Fisheries Entry Commission Permit #SO4T608705, Egegik, AK.

TA-W-50,351; Top Gun Tool, Inc., Erie, PA.

TA-W-50,818; Hitchiner Manufacturing Co., Ferrous Div., Littleton, NH.

Affirmative Determinations for Worker Adjustment Assistance

The following certifications have been issued; the date following the company name and location of each determination references the impact date for all workers of such determination.

TA-W-42,180; Hy-Lift, LLC, Muskegon, MI: September 17, 2001.

TA-W-42,360; Precision Twist Drill Co., Rhinelander, WI: September 16, 2001.

The following certifications have been issued. The requirements of (a)(2)(A) (increased imports) of section 222 have been met.

TA-W-50,540; Gaylord Container Corp., d/b/a Inland Paperboard and Packaging, Inc., Antioch, CA: December 3, 2001.

TA-W-50,064; Cerro Fabricated Products, a Div. of Cerro Metal Products Co., Bristol, CT: November 12, 2001.

TA-W-50,275; Chinook Sailing Products, Cascade Locks, OR: November 25, 2001.

TA-W-50,478; Maysteel, LLC, Mayville, WI: December 27, 2001.

TA-W-50,525; Cincinnati Machine, Div. of Unova, Inc., Cincinnati, OH: January 7, 2002.

TA-W-50,554; Scotty's Fashions, Palmerton, PA: January 6, 2002.

TA-W-50,663; Blackman Uhler, a Div. of Synalloy Corp., Spartanburg, SC: January 15, 2002.

TA-W-50,685: Elm Tex, Inc., West Springfield, MA: January 24, 2002.

TA-W-50,885 & A,B; Flying J. Oil and Gas, Inc., North Salt Lake, UT, Sidney, MT and Gilette, WY: February 7, 2002.

TA-W-50,943; Tree Top, Inc., Consumer Packaged Goods Div. Selah, WA: February 13, 2002.

TA-W-50,955; Specialized Bicycle Components, Salt Lake City Facility, Salt Lake City, UT: February 20, 2002.

TA-W-50,280, A,B,C,D; The Holmes Group, Rival Div., Golding Drive Location, Clinton, MO, South Orchard Location, Clinton, MO, Kansas City, MO, Jackson, MS and Sweet Springs, MO: December 9, 2001.

TA-W-50,956; Woodbridge Sanitary Pottery, a subsidiary of Gerber Plumbing Fixtures Crop, Woodbridge, NJ: February 14, 2002.

TA-W-50,418; Plastx World, a subsidiary of Clayfield Management, LTD (UK), including leased workers of Express Personnel, Wharton, NJ: December 17, 2001.

TA-W-50,770; Warp Knit Mills, Inc., Lincolnton, NC: February 3, 2002.

TA-W-50,773; Crystal Dyeing Finishing, Hickory, NC: February 3, 2002.

TA-W-50,666; John Crowley, Inc., Jackson, MI: January 22, 2002.

TA-W-50,192; Smith and Wesson Corp., Springfield, MA: December 13, 2002.

The following certification has been issued. The requirement of upstream supplier to trade certified primary firm has been met.

TA-W-50,689; Fishing Vessel (F/V) Wendy Ann, Kodiak, AK: January 23, 2002.

TA-W-50,306; Nevamar Co., Particleboard Div., Stuart, VA: December 4, 2001.

TA-W-50,840; State of Alaska Commercial Fisheries Entry Commission Permit #SO4T57684H, Manokotak, AK: January 30, 2002.

TA-W-50,794; Santa Rosa, Inc., Kodiak, AK: February 3, 2002.

The following certifications have been issued. The requirements of (a)(2)(B) (shift in production) of section 222 have been met.

TA-W-50,731; The Protectoseal Co., Bensenville, IL: January 7, 2002.

TA-W-50,579; Thomson 60 Case, LLC, a subsidiary of Thomson Industries, Inc., Lancaster, PA: January 3, 2002.

TA-W-50,680; Avery Dennison, Milford, MA: January 16, 2002.

TA-W-50,712; Fishing Vessel (F/V), Mikna Rene, Manokotak, AK: January 21, 2002.

TA-W-50,715; Fishing Vessel (F/V) Aaron and Eric, Manokotak, AK: January 21, 2002.

TA-W-50,751; Fishing Vessel (F/V) Anuskat, Manokotak, AK: January 21, 2002.

TA-W-50,877; Fishing Vessel (F/V) Number One, Manokotak, AK: January 22, 2002.

TA-W-50,933; Fishing Vessel (F/V) Marilynn, Cook Inlet, AK: February 18, 2002.

TA-W-50,944; Honeywell International, Aerospace-West Coast Support Operations, Burbank, CA: February 7, 2002.

TA-W-50,971; Imco Recycling of Idaho, Post Falls, ID: February 14, 2002.

TA-W-50,396; Sherwood Tool, a Div. of Sweetheart Cup Co., Inc., Commercial Manufactured Parts Div., Kensington, CT: and Assembled Equipment Div., Kensington, CT: December 11, 2001.

TA-W-50,701; Midwest Electric Products, Inc., a wholly-Owned subsidiary of General Electric Corp., Mankato, MN: January 24, 2002.

TA-W-50,093A; Kane Magnetics International, Inc., Galeton, PA: November 6, 2001.

TA-W-50,029; State of Alaska Commercial Fisheries Entry Commission Permit #SO4K618440, Kodiak, AK: November 5, 2001.

TA-W-50,585; Skillers USA, C and S Apparel, Inc., Butler, PA: December 10, 2001.

TA-W-50,623; Arimon Technologies, Inc., Montello, WI: January 17, 2002.

Also, pursuant to title V of the North American Free Trade Agreement Implementation Act (Pub. L. 103-182) concerning transitional adjustment assistance hereinafter called (NAFTA-TAA) and in accordance with section 250(a), subchaper D, chapter 2, title II, of the Trade Act as amended, the Department of Labor presents summaries of determinations regarding eligibility to apply for NAFTA-TAA issued during the month of March 2003.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

None.

The investigation revealed that the criteria for eligibility have not been met for the reasons specified.

The investigation revealed that the workers of the subject firm did not produce an article within the meaning of section 250(a) of the Trade Act, as amended.

None.

Affirmative Determinations NAFTA-TAA

None.

I hereby certify that the aforementioned determinations were issued during the month of March 2003. Copies of these determinations are available for inspection in Room C-5311, U.S. Department of Labor, 200 Constitution Avenue, NW., Washington, DC 20210 during normal business hours or will be mailed to persons who write to the above address.

Dated: March 21, 2003.
Edward A. Tomchick,
Director, Division of Trade Adjustment Assistance.

[FR Doc. 03-7919 Filed 4-1-03; 8:45 am]

BILLING CODE 4510-30-P